DEPARTMENT OF COMMERCE

National Oceanic and Atmospheric Administration

Agency Information Collection Activities; Submission to the Office of Management and Budget (OMB) for Review and Approval; Comment Request; Prohibited Species Donation (PSD) Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at Adrienne.thomas@noaa.gov. Please reference OMB Control Number 0648-0316 in the subject line of your comments. Do not submit Confidential Business Information or otherwise sensitive or protected information.

FOR FURTHER INFORMATION CONTACT: Requests for additional information or specific questions related to collection activities should be directed to Megan Mackey (907) 586-7228.

SUPPLEMENTARY INFORMATION:

I. Abstract

The National Marine Fisheries Services (NMFS) Alaska Regional Office is requesting extension of a currently approved information collection for the Prohibited Species Donation Program (PSD Program).

The Prohibited Species Donation Program (PSD Program) began as a pilot project in 1994. The PSD Program applies only to salmon and halibut delivered by catcher vessels using trawl gear to shoreside processors and stationary floating processors.

The salmon and halibut resources are of value to many stakeholders, including but not limited to commercial, recreational, subsistence, and cultural user groups. The PSD Program was initiated to reduce the amount of edible protein discarded under prohibited species catch regulatory requirements (50 CFR 679.21). If a person is a participant in the PSD Program under § 679.26, the incidentally caught salmon and Pacific halibut may be donated to the PSD Program. The PSD Program allows permitted seafood processors to retain salmon and halibut bycatch for distribution to economically disadvantaged individuals through tax exempt hunger relief organizations.

A PSD permit authorizes tax-exempt organizations to distribute salmon and halibut to hunger relief agencies, food bank networks, or food bank distributors. Salmon and Pacific halibut are considered prohibited species for vessels fishing in the Bering Sea and Aleutian Islands management area and Gulf of Alaska groundfish fisheries. Unless you are a PSD permit holder, all prohibited species catch is to be avoided by vessels. If caught while fishing for groundfish, prohibited species must be returned to the sea with a minimum of injury.

The NMFS Alaska Region Administrator (Regional Administrator) may select one or more tax-exempt organizations to be authorized distributors, as defined at § 679.2. An organization seeking to distribute salmon bycatch and halibut bycatch under the PSD Program must provide the Regional Administrator with the information listed at 50 CFR 679.26(b)(1).

NMFS uses the information provided by an applicant to determine the organization's nonprofit status. In addition, the application provides information about the ability of the organization to arrange for and distribute donated salmon and halibut as a high quality food product. A PSD permit is valid for a 3-year period after NMFS publishes the selection notice in the Federal Register.

II. Method of Collection

There is no form for this application. The application to become a PSD distributor, and any changes or updates to the application, are submitted to NMFS as an email attachment.

III. Data

OMB Control Number: 0648-0316.

Form Number(s): None.

Type of Review: Regular submission (extension of a current information collection).

Affected Public: Not-for-profit institutions.

Estimated Number of Respondents: 1.

Estimated Time per Response: Application to be a NMFS Authorized Distributor, 17 hours.

Estimated Total Annual Burden Hours: 17 hours.

Estimated Total Annual Cost to Public: $0 in recordkeeping/reporting costs.

Respondent's Obligation: Required to Obtain or Retain Benefits.

Legal Authority: 16 U.S.C.1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13529 Filed 6-23-20; 8:45 am]

BILLING CODE 3510-22-P